ENVIRONMENTAL PROTECTION AGENCY

[FRL-7239-2]

Agency Information Collection Activities: Submission for OMB Review; Comment Request; “Reliability, Validity, and Variability in Behavioral Determinants of Drinking Water Disinfection By-Product Exposure”

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Reliability, Validity, and Variability in Behavioral Determinants of Drinking Water Disinfection By-Product Exposure, EPA ICR No. 2030.01. The ICR describes the nature of the information collection and its expected burden and cost; where appropriate, it includes the actual data collection instrument.

DATES: Comments must be submitted on or before July 29, 2002.

ADDRESSES: Send comments, referencing EPA ICR No. 2030.01 to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at Auby.susan@epamail.epa.gov, or download off the Internet at http://www.epa.gov/icr and refer to EPA ICR No. 2030.01. For technical questions about the ICR contact Dr. Patricia A. Murphy, phone 732-906-6830, fax 732-906-6845, email murphy.patricia@epa.gov.

SUPPLEMENTARY INFORMATION: Title: Reliability, Validity, and Variability in Behavior Determinants of Drinking Water Disinfection By-Product Exposure, EPA ICR No. 2030.01. This is a new collection.

Abstract: This study aims to characterize the reliability, validity, and variability of questionnaire-based information on water usage patterns collected in environmental epidemiologic studies. The study builds on a recently funded study entitled “Drinking Water Disinfectant By-products and Spontaneous Abortion” funded by the American Water Works Association Research Foundation (AWWARF) which was recently initiated. The present study will add a substudy component to the parent AWWARF study. It provides for reinterview of a 10% sample (300 women) of the parent study participants for a reliability substudy and an additional 10% sample (300 women) for a validity substudy. The human behavioral aspects, i.e., water usage patterns over time, that will affect one's coming into contact with an ambient level of a particular chemical, is an important source of variability and this has not been well characterized in previous drinking water epidemiology studies. Better characterization of the reliability, variability, and validity of this information, generally obtained through recall in a questionnaire, will decrease uncertainties related to misclassification of the exposure variables and enhance our ability to more clearly interpret the validity and accuracy of reported study findings. All participation and responses are voluntary. Confidentiality of responses will be maintained. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on July 27, 2001 (FR 66 39159); No comments were received.

Burden Statement: The annual public reporting and record keeping burden for this collection of information is estimated to average 1 hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Women of childbearing age who are currently voluntarily enrolled and participating in an ongoing epidemiologic study entitled “Drinking Water Disinfectant By-Products and Spontaneous Abortion.”

Estimated Number of Respondents: 600 .

Frequency of Response: Once.

Estimated Total Annual Hour Burden: 525 hours.

Estimated Total Annualized Capital, O&M Cost Burden: $0.

Send comments on the Agency's need for this information, the accuracy of the provided burden estimates, and any suggested methods for minimizing respondent burden, including through the use of automated collection techniques to the addresses listed above. Please refer to EPA ICR No. 2030.01 in any correspondence.

Dated: June 19, 2002.
Oscar Morales,
Director, Collection Strategies Division.

[FR Doc. 02-16357 Filed 6-27-02; 8:45 am]

BILLING CODE 6560-50-P